DEPARTMENT OF AGRICULTURE

Animal and Plant Health Inspection Service

7 CFR Parts 319 and 354

[Docket No. APHIS-2006-0096]

RIN 0579-AC06

Agricultural Inspection and AQI User Fees Along the U.S./Canada Border; Delay of Effective Date

AGENCY: Animal and Plant Health Inspection Service, USDA.

ACTION: Interim rule; delay of effective date.

SUMMARY: We published an interim rule on August 25, 2006, amending the foreign quarantine and user fee regulations by removing the exemptions from inspection for imported fruits and vegetables grown in Canada and the exemptions from user fees for commercial vessels, commercial trucks, commercial railroad cars, commercial aircraft, and international air passengers entering the United States from Canada. That interim rule had an effective date of November 24, 2006. Subsequently, we published a notice announcing the delay of the effective date of the removal of the user fee exemption for international air passengers until January 1, 2007, and the effective date for the remaining provisions of the rule, including the removal of the exemption from user fees for commercial vessels, commercial trucks, commercial railroad cars, and commercial aircraft entering the United States from Canada, until March 1, 2007. We are now further delaying the effective date of the removal of the exemption from user fees for commercial trucks and railroad cars from Canada until June 1, 2007. We are making this change to allow additional time for us to conclude discussions with the Government of Canada regarding risks, inspections, and costs associated with land-border traffic entering the United States from Canada.

DATES: The effective date for the amendments to 7 CFR 354.3(c)(1), (c)(2), (c)(3), (d)(2), and (d)(4) published on August 25, 2006 (71 FR 50320) and delayed on November 22, 2006 (71 FR 67436) is further delayed to June 1, 2007.

FOR FURTHER INFORMATION CONTACT: Mr. Alan S. Green, Executive Director, Plant Health Programs, PPQ, APHIS, 4700 River Road Unit 36, Riverdale, MD 20737; (301) 734-8261.

SUPPLEMENTARY INFORMATION:

Background

The regulations in 7 CFR part 319 prohibit or restrict the importation of certain plants and plant products into the United States to prevent the introduction of plant pests. Similarly, the regulations in 9 CFR subchapter D prohibit or restrict the importation of certain animals and animal products into the United States to prevent the introduction of pests or diseases of livestock. The regulations in 7 CFR part 354 provide rates and requirements for overtime services relating to imports and exports and for user fees.

On August 25, 2006, we published an interim rule in the Federal Register (71 FR 50320-50328) amending the regulations in 7 CFR parts 319 and 354 by removing the exemptions from inspection for imported fruits and vegetables grown in Canada and the exemptions from user fees for commercial vessels, commercial trucks, commercial railroad cars, commercial aircraft, and international air passengers entering the United States from Canada. As a result of this action, all agricultural products imported from Canada were to be subject to inspection, and commercial conveyances, as well as airline passengers arriving on flights from Canada, were to be subject to inspection and user fees. The interim rule had an effective date of November 24, 2006.

Delay in Effective Date

We received comments from industry representatives and the Government of Canada expressing concern about the possible impact of the rule on affected entities and questioning whether the November 2006 effective date allowed adequate time for those entities to prepare to comply with the new inspection and collection procedures that we would be instituting in order to enforce the interim rule. After evaluating the comments, on November 22, 2006, we published a document in the Federal Register (71 FR 67436) announcing that we were delaying the effective date of the removal of the user fee exemption for international air passengers until January 1, 2007, and the effective date for the remaining provisions of the interim rule, including the removal of the exemption from user fees for commercial vessels, commercial trucks, commercial railroad cars, and commercial aircraft entering the United States from Canada, until March 1, 2007.

We are now further delaying the removal of the exemption from user fees for commercial trucks and railroad cars entering the United States from Canada until June 1, 2007. We are making this change to allow additional time for us to conclude discussions with the Government of Canada regarding risks, inspections, and costs associated with land-border traffic entering the United States from Canada. The March 1, 2007, effective date for the removal of the exemption from user fees for commercial vessels and commercial aircraft entering the United States from Canada will remain unchanged.

Authority: 7 U.S.C. 450, 7701-7772, 7781-7786, and 8301-8317; 21 U.S.C. 136 and 136a; 49 U.S.C. 80503; 7 CFR 2.22, 2.80, and 371.3.

Done in Washington, DC, this 21st day of February 2007.
Kevin Shea,
Acting Administrator, Animal and Plant Health Inspection Service.

[FR Doc. E7-3255 Filed 2-23-07; 8:45 am]

BILLING CODE 3410-34-P